DEPARTMENT OF AGRICULTURE

Submission for OMB Review; Comment Request

March 4, 2003.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Office of the Secretary, Faith-Based and Community Initiatives

Title: Survey on Ensuring Equal Opportunity for Applicants.

OMB Control Number: 0503-NEW.

Summary of Collection: The responsibility of the Office of Faith-based and Community Initiatives is to fulfill the mandate of Executive Orders 13198 and 13199 which prescribe agency responsibilities related to Faith-based and Community Initiatives. Specifically, the office is working to remove all barriers to the full participation of faith-based and community organizations in federal social service programs. The Department of Education has initiated a government-wide survey to gauge the number and quality of applications from faith-based and community organizations. USDA is requesting approval from OMB to implement this survey in conjunction with the application process for the grant programs it administers.

Need and Use of the Information: USDA's Office of Faith-based and Community Initiatives plans to collect information from faith-based and community organizations through a brief survey. The information will be used to judge the effectiveness of the technical assistance and outreach efforts of the faith-based and community initiative. The data collected through the survey will be kept from the decision-makers who oversee the award of grant funds.

Description of Respondents: Not-for-profit institutions.

Number of Respondents: 7,377.

Frequency of Responses: Reporting: On occasion.

Total Burden Hours: 590.

Cooperative State Research, Education, and Extension Service

Title: Application for Authorization to Use the 4-H Name and/or Emblem.

OMB Control Number: 0524-0034.

Summary of Collection: Use of the 4-H Name and/or Emblem is authorized by an Act of Congress, (Pub. L. 772, 80th Congress, 645, 2nd Session). Use of the 4-H Name and/or Emblem by anyone other than the 4-H Clubs and those duly authorized by them, representatives of the Department of Agriculture, the Land-Grant colleges and universities, and person authorized by the Secretary of Agriculture is prohibited by the provisions of 18 U.S.C. 707. The Secretary has delegated authority to the Administrator of the Cooperative State Research, Education, and Extension Service (CSREES) to authorize others to use the 4-H Name and/or Emblem. Therefore, anyone requesting authorization from the Administrator to use the 4-H Name and Emblem is asked to describe the proposed use in a formal application. CSREES will collect information using form CSREES-01 “Application for Authorization to Use the 4-H Club Name and Emblem

Need and Use of the Information: CSREES will collect information on the name of individual, partnership, corporation, or association; organizational address, name of authorized representative; telephone number; proposed use of the 4-H Name or Emblem, and plan for sale or distribution of product. The information collected by CSREES will be used to determine if those applying to use the 4-H Name and Emblem are meeting the requirements and quality of materials, products and/or services provided to the public. If the information were not collected, it would not be possible to ensure that the products, services, and materials meet the high standards of 4-H, its educational goals and objectives.

Description of Respondents: Not-for-profit institutions; Individuals or households; Business or other for-profit.

Number of Respondents: 60.

Frequency of Responses: Reporting: Other (every 3 years).

Total Burden Hours: 30.

Foreign Agricultural Service

Title: Technical Assistance for Specialty Crops Program.

OMB Control Number: 0551-0038.

Summary of Collection: The Technical Assistance for Specialty Crops (TASC) program is authorized by Section 3205 of the Farm Security and Rural Investment Act of 2002 (Pub. L. 107-171). This section provides that the Secretary of Agriculture shall establish a program to address unique barriers that prohibit or threaten the export of U.S. specialty crops. The Foreign Agricultural Service (FAS) administers the program for the Commodity Credit Corporation. The TASC is designed to assist U.S. organizations by providing funding for projects that address sanitary, phytosanitary, and technical barriers that prohibit or threaten the export of U.S. speciality crops.

Need and Use of the Information: FAS collects data for fund allocation, program management, planning and evaluation. FAS will collect information from applicant desiring to receive grants under the program to determine the viability of requests for funds. The program could not be implemented without the submission of project proposals, which provide the necessary information upon which funding decisions are based.

Description of Respondents: Not-for-profit; Business or other for-profit; Federal Government; State, Local or Tribal Government.

Number of Respondents: 20.

Frequency of Responses: Recordkeeping; Reporting: On occasion; Annually.

Total Burden Hours: 640.

Farm Service Agency

Title: Horse Breeder Loan Program.

OMB Control Number: 0560-0221.

Summary of Collection: The Farm Service Agency (FSA) makes direct and guaranteed loans to family farmers who cannot obtain loans from commercial sources at reasonable rates and terms. The Horse Breeder Loans Program will assist horse breeder who have suffered economic loss as a result of Mare Reproductive Loss Syndrome (MRLS). To determine whether an applicant is eligible for a loan FSA must document the severity of the horse breeder's loss. A veterinary certification is used to document the losses. MRLS is a veterinary medical condition, which requires a trained expert to determine the number and type of loss. The Horse Breeder Loan Program is authorized under the Agriculture, Rural Development, Food and Drug Administration, and Related Agencies Appropriations Act, 2002 (The Act), enacted November 28, 2001. FSA will collect information using several forms.

Need and Use of the Information: FSA will collect information to evaluate an applicant's eligibility and feasibility for loan assistance. If the information is not collected from each applicant, or collected less frequently, FSA would be unable to make eligibility and feasibility determinations.

Description of Respondents: Farms; Individuals or households; Business or other for-profit; Federal Government.

Number of Respondents: 267.

Frequency of Responses: Reporting: Other (Eligibility).

Total Burden Hours: 414.

Natural Resources and Conservation Service

Title: Volunteer Program—Earth Team.

OMB Control Number: 0578-0024.

Summary of Collection: Volunteers have been a human resource to the Natural Resources Conservation Service (NRCS) since 1985. NRCS is authorized by the Federal Personnel Manual (FPM) Supplement 296-33, Subchapter 22, to recruit, train and accept, with regard to Civil Service classification law, rules, or regulations, the service of individuals to serve without compensation. Volunteers may assist in any agency program/project and may perform any activities which agency employees are allowed to do. Volunteers must be 14 years of age. NRCS will collect information using several NRCS forms.

Need and Use of the Information: NRCS will collect information on the type of skills and type of work the volunteers are interested in doing. NRCS will also collect information to implement and evaluate the effectiveness of the volunteer program. Without the information, NRCS would not know which individuals are interested in volunteering.

Description of Respondents: Individuals or households; Business or other for-profit; Not-for-profit institutions.

Number of Respondents: 30,320.

Frequency of Responses: Reporting: Semi-annually.

Total Burden Hours: 916.

Animal and Plant Health Inspection Service

Title: Low Pathogenic AI Payment of Indemnity.

OMB Control Number: 0579-0208.

Summary of Collection: In accordance with 21 U.S.C. 111-113, 114, 115, 117, 120, 123, and 134a, the Secretary of Agriculture has the authority to promulgate regulations and take measures to prevent the introduction into the United States and the interstate dissemination within the United States of communicable diseases of livestock and poultry, and to pay claims growing out of the destruction of animals. Disease prevention is the most effective method of maintaining a healthy animal population and enhancing the ability of the United States to compete in the global market of animal and animal products. The Animal and Plant Health Inspection Service (APHIS) is charged with carrying out this disease prevention mission. Highly pathogenic avian influenza (AI) is an extremely infectious and deadly form of AI and can cause sudden death in poultry without any warning signs of infection. Low pathogenic AI, however, causes few clinical sign infected birds. APHIS will collect information using several of APHIS' forms.

Need and Use of the Information: APHIS will collect the name, address, the number, type and age of poultry for which the claimant is seeking payment; and the appraised value of the poultry. APHIS will also collect information to document the loss of poultry from diagnostic testing of backyard flocks. Information provided will be used to reimburse poultry owners for poultry dying as a result of the test. Failure to collect the information would make it impossible for APHIS to launch a control program in Virginia, possibly leading to outbreaks in other States.

Description of Respondents: Farms; Individuals or households; Federal Government; State, Local, or Tribal Government.

Number of Respondents: 800.

Frequency of Responses: Reporting; On occasion.

Total burden Hours: 1,600.

Food and Nutrition Service

Title: Status of Claims Against Households.

OMB Control Number: 0584-0069.

Summary of Collection: Section 11, 13, and 16 of the Food Stamp Act of 1977, as amended (the Act) and appropriate Food Stamp Program Regulation are the bases for the information collected on FNS-209. Food Stamp Program regulations require that State agencies submit quarterly form NFS-209, Status of Claims Against Households, reports. The required information provided on this report must be obtained from a State accountable system responsible for establishing claims, sending demand letters, collecting claims, and managing other claim activity.

Need and use of the Information: The Food and Nutrition Service (FNS) will collect information on the outstanding aggregate claim balance; claims established; collections; any balance and collection adjustments; and the amount to be retained for collecting non-agency error claims. The information will be used by State agencies to ascertain aggregate claim balance and collections for determining overall performance, the collection amounts to return to FNS, and claim retention amounts. FNS will receive collections and report collection activity to Treasury.

Description of Respondents: State, Local or Tribal Government.

Number of Respondents: 53.

Frequency of Responses: Recordkeeping; Reporting: Quarterly.

Total Burden Hours: 42.

Forest Service

Title: Special Use Administration.

OMB Control Number: 0596-0082.

Summary of Collection: Title 5 of the Federal Land Policy and Management Act of 1976 (FLPMA, P.L. 94-579), the Organic Administration Act of 1897, (30 Stat. 34) and the Secretary's Regulations at Title 36, Code of Federal Regulations, Section 251, Subpart B (36 CFR 251, Subpart B), provides for authorities and requirements for the application, issuance, and administration of special uses on National Forest System Lands. There is a basic obligation of the agency to ensure that the use of Federal lands is in the public interest; is compatible with the mission of the Forest Service (FS); and that environmental and social impacts are identified and mitigated and that a fee based on fair market value is received. The evaluation can only be accomplished with the cooperation and information furnished by the applicant or permit holder. The information is needed from those parties who seek special-use authorizations to conduct private or commercial operations or National Forest System land, or from those who are currently utilizing National Forest System lands for private or public use. FS will collect informationusing several forms.

Need and Use of the Information: FS will collect information on: (1) the identity of the applicant; (2) the nature of the request and project description; (3) location of National Forest System lands requested for use; (4) technical and financial capability of the requester; (5) alternatives considered, including use of nonfederal lands and; (6) anticipated environmental impacts and proposed mitigation of those impacts. The authorized forest officer evaluates this information and makes a decision to approve or disapprove the requested use. The information required to evaluate the merits of the applicant's request to use National Forest System lands that is a not available elsewhere. The use of the forms helps reduce the burden on the applicant by providing a listing of the information that is required by law and tailored to the intended use proposed by the respondent. Use of the forms is of extreme benefit to applicants in that they do not have to refer to the regulations or policy manuals to determine what information is needed by the agency. Without the forms, the cost to the applicant would be increased.

Description of Respondents: Individuals or households; Business or other for-profit; Not-for-profit institutions; Farms; Federal Government; State, Local or Tribal Government.

Number of Respondents: 60,750.

Frequency of Responses: Reporting: On occasion; Quarterly; Annually.

Total Burden Hours: 82,775.

Forest Service

Title: National Visitor Use Monitoring, and Customer and Use Survey Techniques for Operations, Management, Evaluation, and Research.

OMB Control Numbers: 0596-0110.

Summary of Collection: The National Forest Management Act (NFMA) of 1976 and the Forest and Rangeland Renewable Resources Act (RPA) of 1974 require a comprehensive assessment of present and anticipated uses, demand for and supply of renewable resources from the nation's public and private forests and rangelands. The Forest Service (FS) is required to report to Congress and others in conjunction with these legislated requirements as well as the use of appropriated funds. An important element in the reporting is the number of visits to National Forests and Grasslands, as well as to Wilderness Areas that the agency manages. The Customer and Use Survey Techniques for Operations, Management, Evaluation and Research (CUSTOMER) study combines several different survey approaches to gather data describing visitors to and users of public recreation lands, including their trip activities, satisfaction levels, evaluations, demographic profiles, trip characteristics, spending, and annual visitation patterns. FS will use face-to-face interviewing for collecting information on-site as well as written survey instruments to be mailed back by respondents.

Need and Use of the Information: FS plans to collect information from a variety of National Forests and other recreation areas. Information gathered through the various Customer modules has been and will continue to be used by planners, researchers, managers, policy analysts, and legislators in resource management areas, regional offices, regional research stations, agency headquarters, and legislative offices.

Description of Respondents: Individuals or households.

Number of Respondents: 66,000.

Frequency of Responses: Reporting; Quarterly; Annually.

Total Burden Hours: 9,000.

Food and Nutrition Service

Title: Child Nutrition Labeling Program.

OMB Control Number: 0584-0320.

Summary of Collection: The Child Nutrition Labeling Program is a voluntary technical assistance program administered by the Food and Nutrition Service (FNS). The program is designed to aid schools and institutions participating in the National School Lunch Program, the School Breakfast Program, the Child and Adult Care Food Program, and the Summer Food Service Program in determining the contribution a commercial product makes towards the meal pattern requirements. By requiring that companies that sell food to the government for use in nutrition program to identify the contribution of a product to the established meal pattern requirements. The Child Nutrition Labeling Program is implemented in conjunction with existing label approval programs administered by the Food Safety and Inspection Service (FSIS), the Agricultural Marketing Service (AMS), and the U.S. Department of Commerce. In addition to an application for approval of a Child Nutrition label, companies must include a separate statement on how the product satisfies meal pattern requirements. All information is submitted to FSIS on form FSIS 7234-1, Application for Approval of Labels, Marking or Device.

Need and Use of the Information: FNS uses the information collected by FSIS to aid school food authorities and other institutions participating in child nutrition programs in determining the contribution a commercial product makes towards the established meal pattern requirements.

Description of Respondents: Business or other for-profit.

Number of Respondents: 946.

Frequency of Responses: Reporting: Other (as needed).

Total Burden Hours: 1,938.

Sondra Blakey,
Departmental Information Collection Clearance Officer.

[FR Doc. 03-5433 Filed 3-6-03; 8:45 am]

BILLING CODE 3410-01-M